ENVIRONMENTAL PROTECTION AGENCY

[Regional Docket No. II-2016-3; FRL-9993-76-Region 2]

Clean Air Act Operating Permit Program; Petitions on State Operating Permit for Hyland Landfill

AGENCY: Environmental Protection Agency (EPA).

ACTION: Notice of final Order on Petitions on Clean Air Act title V operating permit.

SUMMARY: The Environmental Protection Agency (EPA) Administrator signed an Order dated April 10, 2019 denying two Petitions, each dated March 21, 2016, from Gudrun Scott and from Frederick Sinclair on behalf of the Concerned Citizens of Allegany County (CCAC). The Petitions relate to a Clean Air Act (CAA) title V operating permit issued by the New York State Department of Environmental Conservation (NYSDEC) to Hyland Facility Associates for the Hyland Landfill located in Allegany County, New York.

ADDRESSES: The EPA requests that you contact the individual listed in the FOR FURTHER INFORMATION CONTACT section to view copies of the final Order, the Petitions, and other supporting information. You may review copies of the final Order, the Petitions, and other supporting information at the EPA Region 2 Office, 290 Broadway, 25th Floor, New York, New York 10007-1866.

You may view the hard copies Monday through Friday, from 9:00 a.m. to 3:00 p.m., excluding federal holidays. If you wish to examine these documents, you should make an appointment at least 24 hours before the visiting day. Additionally, the final Order and Petitions are available electronically at: https://www.epa.gov/title-v-operating-permits/title-v-petition-database.

FOR FURTHER INFORMATION CONTACT: Suilin Chan, EPA Region 2, 212-637-4019, Chan.Suilin@epa.gov.

SUPPLEMENTARY INFORMATION: The CAA affords the EPA a 45-day period to review and object to, as appropriate, operating permits proposed by state permitting authorities under title V of the CAA. Section 505(b)(2) of the CAA authorizes any person to petition the EPA Administrator to object to a title V operating permit within 60 days after the expiration of the EPA's 45-day review period if the EPA has not objected on its own initiative. Petitions must be based only on objections to the permit that were raised with reasonable specificity during the public comment period provided by the state, unless the petitioner demonstrates that it was impracticable to raise these issues during the comment period or unless the grounds for the issues arose after this period.

The EPA received Petitions from Gudrun Scott and from Frederick Sinclair on behalf of the CCAC, each dated March 21, 2016, relating to the issuance of operating Permit No. 9-0232-00003/00012, issued by the NYSDEC to the Hyland Landfill, in Allegany County, New York. The Order more fully summarizes the issues raised in the Petitions. The Scott Petition expresses various concerns related to Hyland Landfill's acceptance of drill cuttings and other drilling wastes from natural gas drilling operations in Pennsylvania, and the possibility that the deposition of these wastes will ultimately result in air emissions of radon from the Hyland Landfill. The CCAC Petition asserts that the permit contains a material mistake or that inaccurate statements were made in establishing the emissions standards or other terms or conditions of the permit.

On April 10, 2019, the EPA Administrator issued an Order denying the Petitions. The Order explains the basis for the EPA's decision.

Sections 307(b) and 505(b)(2) of the CAA provide that a petitioner may request judicial review of those portions of an order that deny issues in a title V petition. Any petition for review shall be filed in the United States Court of Appeals for the appropriate circuit no later than July 22, 2019.

Dated: May 6, 2019.
Peter Lopez,
Regional Administrator, Region 2.

[FR Doc. 2019-10818 Filed 5-22-19; 8:45 am]

BILLING CODE 6560-50-P